DEPARTMENT OF TRANSPORTATION

Federal Aviation Administration

14 CFR Part 39

[Docket No. FAA-2018-0606; Product Identifier 2018-CE-018-AD; Amendment 39-19321; AD 2018-14-01]

RIN 2120-AA64

Airworthiness Directives; Piper Aircraft, Inc.

AGENCY: Federal Aviation Administration (FAA), DOT.

ACTION: Final rule; request for comments.

SUMMARY: We are adopting a new airworthiness directive (AD) for certain Piper Aircraft, Inc. (Piper) Models PA-46-600TP (M600) airplanes. This AD requires inserting temporary airspeed limitations into the pilot's operating handbook, installing a temporary placard, inspecting rivets on the cockpit canopy above the left and right cockpit side windows, and installing a repair kit based on the findings of the rivet inspection. This AD was prompted by a report of undersized fasteners installed during manufacturing. We are issuing this AD to address the unsafe condition on these products.

DATES: This AD is effective July 25, 2018.

The Director of the Federal Register approved the incorporation by reference of a certain publication listed in this AD as of July 25, 2018.

We must receive comments on this AD by August 24, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Piper Aircraft, Inc., 2926 Piper Drive, Vero Beach, Florida 32960; telephone: (772) 567-4361; internet: www.piper.com. You may view this service information at the FAA, Policy and Innovation Division, 901 Locust, Kansas City, Missouri 64106. For information on the availability of this material at the FAA, call (816) 329-4148. It is also available on the internet at http://www.regulations.gov by searching for and locating Docket No. FAA-2018-0606.

Examining the AD Docket

You may examine the AD docket on the internet at http://www.regulations.gov by searching for and locating Docket No. FAA-2018-0606; or in person at Docket Operations between 9 a.m. and 5 p.m., Monday through Friday, except Federal holidays. The AD docket contains this final rule, the regulatory evaluation, any comments received, and other information. The street address for Docket Operations (phone: 800-647-5527) is listed above. Comments will be available in the AD docket shortly after receipt.

FOR FURTHER INFORMATION CONTACT: Dan McCully, Aerospace Engineer, FAA, Atlanta ACO Branch, 1701 Columbia Avenue, College Park, Georgia 30337; telephone: (404) 474-5548; fax: (404) 474-5606; email: william.mccully@faa.gov.

SUPPLEMENTARY INFORMATION:

Discussion

We received a report from Piper that some rivets installed through the fuselage skin at the cockpit area during manufacture are below the minimum required strength on certain Model PA-46-600TP (M600) airplanes. This condition, if not corrected, could result in failure of the skin joint resulting in loss of pressurization or fuselage structural failure. We are issuing this AD to correct the unsafe condition on these products.

Related Service Information Under 1 CFR Part 51

We reviewed Piper Aircraft, Inc. Service Bulletin No. 1318B, dated June 7, 2018. The service bulletin describes procedures for incorporating temporary airspeed limitations into the pilot's operating handbook (POH) and fabricating and installing an airspeed limitations placard on the airplane until an inspection is completed and a minimum of 16 specific rivets are replaced. The service bulletin also describes procedures for the inspection of the rivets on the cockpit canopy above the left and right cockpit side window and the replacement of the rivets. This service information is reasonably available because the interested parties have access to it through their normal course of business or by the means identified in the ADDRESSES section.

FAA's Determination

We are issuing this AD because we evaluated all the relevant information and determined the unsafe condition described previously is likely to exist or develop in other products of the same type design.

AD Requirements

This AD requires inserting temporary airspeed limitations into the POH, installing a temporary placard with the airspeed limitations in the cockpit, inspecting the rivets on the cockpit canopy above the left and right cockpit side windows, and installing a repair kit based on the findings of the inspection.

FAA's Justification and Determination of the Effective Date

An unsafe condition exists that requires the immediate adoption of this AD without providing an opportunity for public comments prior to adoption. The FAA has found that the risk to the flying public justifies waiving notice and comment prior to adoption of this rule because undersized and understrength rivets through the fuselage skin at the cockpit area could result in failure of the skin joint, which could result in loss of pressurization or fuselage structural failure. Therefore, we find good cause that notice and opportunity for prior public comment are impracticable. In addition, for the reason stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-0606 and product identifier 2018-CE-018-AD at the beginning of your comments.

We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 31 airplanes, of U.S. registry.

We estimate the following costs to comply with this AD:

Estimated Costs
Action | Labor cost | Parts cost | Cost per product | Cost on U.S. operators
Insert airspeed limitations into the POH and install an airspeed temporary placard | .5 work-hour × $85 per hour = $42.50 | Not applicable | $42.50 | $1,317.50
Inspect the size of the cockpit side window rivets | 2 work-hours (1 work-hour on each side) × $85 per hour = $170 | Not applicable | 170 | 5,270

We estimate the following costs to do any necessary replacements that would be required based on the results of the inspection. Each airplane would require one of the kits on each side based on the inspection. We have presented what the cost on U.S. operators would be for each kit on both sides even though each airplane would have one of the two kits on each side and could have different kits on each side. This would make the total cost on U.S. operators significantly less, but we have no way of determining how many would require each kit.

Action | Labor cost | Parts cost | Cost per product | Cost on U.S. operators
Replace rivets using Rivet Replacement Kit, Piper part number P/N 88623-701 | 16 work-hours (8 work-hours each side) × $85 per hour = $1,360 | $6 ($3 each side) | $1,366 | $42,346
Replace rivets using Rivet Replacement Kit, Piper part number P/N 88624-701 | 60 work-hours (30 work-hours each side) × $85 per hour = $5,100 | 244 ($122 each side) | 5,344 | 165,664

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-14-01 Piper Aircraft, Inc.: Amendment 39-19321; Docket No. FAA-2018-0606; Product Identifier 2018-CE-018-AD.

(a) Effective Date

This AD is effective July 25, 2018.

(b) Affected ADs

None.

(c) Applicability

This AD applies to Piper Aircraft, Inc. (Piper) Model PA-46-600TP (M600) airplanes, serial numbers 4698004 through 4698041, certificated in any category.

(d) Subject

Joint Aircraft System Component (JASC)/Air Transport Association (ATA) of America Code 5330, Fuselage Skin.

(e) Unsafe Condition

This AD was prompted by a report from Piper of rivets installed through the fuselage skin at the cockpit area during manufacture that are below the minimum required strength. We are issuing this AD to prevent failure of the skin joint, which could result in loss of pressurization or fuselage structural failure.

(f) Compliance

Comply with this AD within the compliance times specified, unless already done.

(g) Insert Temporary Airspeed Limitations Into Pilot's Operating Handbook

(1) Before further flight after July 25, 2018 (the effective date of this AD), insert the temporary airspeed limitations page into the pilot's operating handbook (POH), following the instructions in Part 1 of Piper Aircraft, Inc. Service Bulletin (SB) No. 1318B, dated June 7, 2018.

(2) The insertion of the temporary operating limitations page into the POH may be performed by the owner/operator (pilot) holding at least a private pilot certificate and must be entered into the airplane records showing compliance with paragraph (g) of this AD in accordance with 14 CFR 43.9(a)(1) through (4) and 14 CFR 91.417(a)(2)(v). The record must be maintained as required by 14 CFR 91.417, 121.380, or 135.439.

(h) Temporary Placard

(1) Before further flight after July 25, 2018 (the effective date of this AD), install onto the cockpit instrument panel Placard—Flight Limitations, Piper P/N 46G110013-701, following the instructions in Part 1, paragraph 2.a. of Piper Aircraft, Inc. Service Bulletin (SB) No. 1318B, dated June 7, 2018; or fabricate a placard from locally sourced materials following the instructions in Part 1, paragraph 2.a.1 and 2.a.2 of Piper Aircraft, Inc. Service Bulletin (SB) No. 1318B, dated June 7, 2018.

(2) This action may be performed by the owner/operator (pilot) holding at least a private pilot certificate and must be entered into the aircraft records showing compliance with this AD in accordance with 14 CFR 43.9(a)(1) through (4) and 14 CFR 91.417(a)(2)(v). The record must be maintained as required by 14 CFR 91.417, 121.380, or 135.439.

(i) Install Rivet Replacement Kit

(1) At the next inspection after July 25, 2018 (the effective date of this AD), but no later than the next 100 hours time-in-service (TIS) after July 25, 2018 (the effective date of this AD), inspect the rivets at the canopy area above both cockpit side windows, determine their size, and replace with either Rivet Replacement Kit Piper part number (P/N) 88623-701, Revision A or Rivet Replacement Kit Piper P/N 88624-701, Revision A, as applicable, following Part II of the instructions in Piper Aircraft, Inc. Service Bulletin (SB) No. 1318B, dated June 7, 2018.

(2) After the rivets have been replaced following the requirement in paragraph (i)(1) of this AD, the temporary airspeed limitations required in paragraph (g) and (h) of this AD are no longer in effect, and you should remove the temporary airspeed limitations page inserted into the POH that was required for compliance with paragraph (g) of this AD, and the temporary placard required for compliance with paragraph (h) of this AD, and update aircraft records showing compliance with this AD in accordance with 14 CFR 43.9(a)(1) through (4) and 14 CFR 91.417(a)(2)(v). The record must be maintained as required by 14 CFR 91.417, 121.380, or 135.439.

(j) Credit for Previous Actions

This AD allows credit for doing the actions required in paragraphs (g) and (i) of this AD using Piper Aircraft, Inc. SB No. 1318, dated December 20, 2017; or Piper Aircraft, Inc. SB No. 1318A, dated March 6, 2018, if done before the effective date of this AD.

(k) Special Flight Permit

A special flight permit is allowed per 14 CFR 39.23 with the following limitations: No special flight permit is required for the POH insertion. A one-time special flight with fuel stops is permitted to the Piper service facility for the inspection and replacement. Maximum operating speed (Vmo) is restricted to 230 knots calibrated air speed (KCAS).

(l) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m) of this AD.

(2) Before using any approved AMOC, notify your appropriate principal inspector, or lacking a principal inspector, the manager of the local flight standards district office/certificate holding district office.

(3) AMOCs approved for AD 2018-02-05 are not approved as AMOCs for the corresponding provisions of this AD.

(4) For service information that contains steps that are labeled as Required for Compliance (RC), the provisions of paragraphs (l)(4)(i) and (ii) of this AD apply.

(i) The steps labeled as RC, including substeps under an RC step and any figures identified in an RC step, must be done to comply with this AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

For more information about this AD, contact Dan McCully, Aerospace Engineer, FAA, Atlanta ACO Branch, 1701 Columbia Avenue, College Park, Georgia 30337; telephone: (404) 474-5548; fax: (404) 474-5606; email: william.mccully@faa.gov.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Piper Aircraft, Inc. Service Bulletin (SB) No. 1318B, dated June 7, 2018.

(ii) Reserved.

(3) For Piper Aircraft, Inc. service information identified in this AD, contact Piper Aircraft, Inc., 2926 Piper Drive, Vero Beach, FL 32960; telephone: (772) 567-4361; internet: www.piper.com/technical-publications-documents/.

(4) You may view this service information at FAA, Policy and Innovation Division, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on June 22, 2018.
Melvin J. Johnson,
Aircraft Certification Service, Deputy Director, Policy and Innovation Division, AIR-601.

[FR Doc. 2018-14080 Filed 7-9-18; 8:45 am]

BILLING CODE 4910-13-P